DEPARTMENT OF HEALTH AND HUMAN SERVICES

Food and Drug Administration

[Docket No. FDA-2009-N-0294]

Regulation of Tobacco Products; Extension of Comment Period; Correction

AGENCY: Food and Drug Administration, HHS.

ACTION: Notice; extension of comment period; correction.

SUMMARY: The Food and Drug Administration (FDA) is correcting a notice; extension of comment period that appeared in the Federal Register of October 1, 2009 (74 FR 50810). The notice; extension of comment period announced that FDA is extending to December 28, 2009, the comment period for a notice that originally published in the Federal Register of July 1, 2009 (74 FR 31457). The notice; extension of comment period published with an inadvertent error in the DATES section. This document corrects that error.

FOR FURTHER INFORMATION CONTACT: Joyce Strong, Office of Policy (HF-27), Food and Drug Administration, 5600 Fishers Lane, Rockville, MD 20857, 301-827-7010.

SUPPLEMENTARY INFORMATION: In FR Doc. E9-23607, appearing on page 50810, in the Federal Register of Thursday, October 1, 2009, the following correction is made:

1. On page 50810, in the second column, the “DATES” section is corrected to read “Submit electronic or written comments by December 28, 2009.”.

Dated: October 1, 2009.
David Horowitz,
Assistant Commissioner for Policy.

[FR Doc. E9-24214 Filed 10-6-09; 8:45 am]

BILLING CODE 4160-01-S